NUCLEAR REGULATORY COMMISSION

Advisory Committee on the Medical Uses of Isotopes: Meeting Notice

AGENCY: U.S. Nuclear Regulatory Commission.

ACTION: Notice of meeting.

SUMMARY: NRC will convene a meeting of the Advisory Committee on the Medical Uses of Isotopes (ACMUI) on May 7-8, 2009. A sample of agenda items to be discussed during the public session includes: (1) Summary of the enforcement process and enforcement actions against medical licensees; (2) regulatory responsibilities of the U.S. Food and Drug Administration; (3) ACMUI subcommittee report on byproduct material events; (4) ACMUI subcommittee report on training and experience for yttrium-90 microspheres users; (5) National Academy of Science report on the production of medical isotopes using highly enriched uranium and low enriched uranium; (6) briefing on the Veterans Affairs medical events; (7) infiltrations of therapeutic radiopharmaceuticals as medical events; (8) National Council on Radiation Protection & Measurements Report 160 “Ionizing Radiation Exposure of the Population of the United States” and its implications for NRC programs; (9) ACMUI subcommittee report on training and experience for American Board of Radiology certification; (10) medical event reporting to the International Nuclear Event Scale; and (11) potential changes to 10 CFR Part 35. A copy of the agenda will be available at http://www.nrc.gov/reading-rm/doc-collections/acmui/agenda or by e-mailing Ms. Ashley Cockerham at the contact information below.

Purpose: Discuss issues related to 10 CFR Part 35 Medical Use of Byproduct Material.

Date and Time for Closed Session: May 7, 2009, from 3:15 p.m. to 5:30 p.m. This session will be closed so that ACMUI can complete self-evaluations, discuss internal Committee business, and prepare for a meeting with the Commission.

Date and Time for Open Sessions: May 7, 2009, from 8 a.m. to 3:15 p.m. and May 8, 2009, from 8 a.m. to 4:30 p.m.

Address for Public Meeting: U.S. Nuclear Regulatory Commission, Two White Flint North Auditorium, 11545 Rockville Pike, Rockville, Maryland 20852.

Public Participation: Any member of the public who wishes to participate in the meeting should contact Ms. Cockerham using the information below.

Contact Information: Ashley M. Cockerham, e-mail: ashley.cockerham@nrc.gov, telephone: (240) 888-7129.

Conduct of the Meeting: Leon S. Malmud, M.D., will chair the meeting. Dr. Malmud will conduct the meeting in a manner that will facilitate the orderly conduct of business. The following procedures apply to public participation in the meeting:

1. Persons who wish to provide a written statement should submit an electronic copy to Ms. Cockerham at the contact information listed above. All submittals must be received by April 30, 2009, and must pertain to the topic on the agenda for the meeting.

2. Questions and comments from members of the public will be permitted during the meeting, at the discretion of the Chairman.

3. The draft transcript will be available on ACMUI's Web site (http://www.nrc.gov/reading-rm/doc-collections/acmui/tr/) on or about June 8, 2009. A meeting summary will be available on ACMUI's Web site (http://www.nrc.gov/reading-rm/doc-collections/acmui/meeting-summaries/) on or about June 22, 2009.

4. Persons who require special services, such as those for the hearing impaired, should notify Ms. Cockerham of their planned attendance.

This meeting will be held in accordance with the Atomic Energy Act of 1954, as amended (primarily Section 161a); the Federal Advisory Committee Act (5 U.S.C. App); and the Commission's regulations in Title 10, U.S. Code of Federal Regulations, Part 7.

Dated: March 30, 2009.
Andrew L. Bates,
Advisory Committee Management Officer.

[FR Doc. E9-7497 Filed 4-2-09; 8:45 am]

BILLING CODE 7590-01-P